DEPARTMENT OF TRANSPORTATION

Federal Aviation Administration

14 CFR Part 39

[Docket No. FAA-2006-24366; Directorate Identifier 2006-NM-040-AD; Amendment 39-14716; AD 2006-16-16]

RIN 2120-AA64

Airworthiness Directives; Empresa Brasileira de Aeronautica S.A. (EMBRAER) Model EMB-135BJ Airplanes

AGENCY: Federal Aviation Administration (FAA), Department of Transportation (DOT).

ACTION: Final rule.

SUMMARY: The FAA is adopting a new airworthiness directive (AD) for certain EMBRAER Model EMB-135BJ airplanes. This AD requires inspecting for missing fire blocking material on the left- and right-hand partitions of the forward baggage compartment door; replacing the seal on both partitions; and performing corrective action if necessary. This AD results from a report indicating that certain airplanes were delivered with the fire blocking material missing and the seal improperly installed on the partitions of the forward baggage compartment door. We are issuing this AD to detect and correct such discrepancies on the forward baggage compartment partition, which, in the event of a fire in the baggage compartment, could result in smoke propagating into the main cabin.

DATES: This AD becomes effective September 22, 2006.

The Director of the Federal Register approved the incorporation by reference of a certain publication listed in the AD as of September 22, 2006.

ADDRESSES: You may examine the AD docket on the Internet at http://dms.dot.gov or in person at the Docket Management Facility, U.S. Department of Transportation, 400 Seventh Street, SW., Nassif Building, Room PL-401, Washington, DC.

Contact Empresa Brasileira de Aeronautica S.A. (EMBRAER), P.O. Box 343—CEP 12.225, Sao Jose dos Campos—SP, Brazil, for service information identified in this AD.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain EMBRAER Model EMB-135BJ airplanes. That NPRM was published in the Federal Register on April 11, 2006 (71 FR 18247). That NPRM proposed to require inspecting for missing fire blocking material on the left- and right-hand partitions of the forward baggage compartment door; replacing the seal on both partitions; and performing corrective action if necessary.

Comments

We provided the public the opportunity to participate in the development of this AD. We have considered the comments received.

Request To Add Revised Service Information to Applicability Section

The manufacturer, EMBRAER, advises that the service bulletin specified in the NPRM has been revised. EMBRAER notes that EMBRAER Service Bulletin 145LEG-25-0060, Revision 01, dated March 3, 2006, extends the compliance time to coincide with the Brazilian airworthiness directive and contains minor changes. EMBRAER asks that we add the revised service bulletin to the applicability section.

We agree with EMBRAER. We have reviewed Revision 01 of the service bulletin and note that it does not necessitate additional work. We have changed the applicability section of the AD to refer to Revision 01. We have also revised paragraph (f) of the AD to reflect the revised service bulletin. In addition, we have added a new paragraph (g) to this AD specifying that accomplishment of the actions specified in paragraph (f) of the AD in accordance with the original issue of the service bulletin is considered to be an acceptable method of compliance. Subsequent paragraphs of the AD have been re-identified accordingly.

Request To Change Terminology

EMBRAER also asks that the statement of the unsafe condition specified in the NPRM be changed to the following: “We are issuing this AD to detect and correct such discrepancies on the partitions of the forward baggage compartment partition, which, in the event of a fire in the baggage compartment, could result in smoke propagating into the main cabin.” EMBRAER states that instead of the forward baggage compartment “door,” the subject area should be named the forward baggage compartment “partition.”

We agree with EMBRAER and have changed the terminology throughout the AD as follows: “We are issuing this AD to detect and correct such discrepancies on the forward baggage compartment partition, which, in the event of a fire in the baggage compartment, could result in smoke propagating into the main cabin.”

Conclusion

We have carefully reviewed the available data, including the comments received, and determined that air safety and the public interest require adopting the AD with the changes described previously. These changes will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet cost
Inspection | 1 | $80 | None | $80 | 23 | $1,840
Seal Replacement | 7 | $80 | Minimal | $560 | 23 | $12,880

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-16-16 Empresa Brasileira de Aeronautica S.A. (EMBRAER): Amendment 39-14716. FAA-2006-24366; Directorate Identifier 2006-NM-040-AD.

Effective Date

(a) This AD becomes effective September 22, 2006.

Affected ADs

(b) None.

Applicability

(c) This AD applies to EMBRAER Model EMB-135BJ airplanes, certificated in any category; as identified in EMBRAER Service Bulletin 145LEG-25-0060, Revision 01, dated March 3, 2006.

Unsafe Condition

(d) This AD results from a report indicating that certain airplanes were delivered with the fire blocking material missing and the seal improperly installed on the partitions of the forward baggage compartment door. We are issuing this AD to detect and correct such discrepancies on the forward baggage compartment partition, which, in the event of a fire in the baggage compartment, could result in smoke propagating into the main cabin.

Compliance

(e) You are responsible for having the actions required by this AD performed within the compliance times specified, unless the actions have already been done.

Inspection and Corrective Actions

(f) Within 24 months after the effective date of this AD: Do a general visual inspection for missing fire blocking material (an insulation blanket) on the left- and right-hand partitions of the forward baggage compartment door, replace the seal on both partitions with a new seal, and accomplish all applicable corrective actions, by doing all the actions specified in the Accomplishment Instructions of EMBRAER Service Bulletin 145LEG-25-0060, Revision 01, dated March 3, 2006. All applicable corrective actions must be done before further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Acceptable for Compliance

(g) Accomplishment of the actions required by paragraph (f) of this AD before the effective date of this AD in accordance with EMBRAER Service Bulletin 145LEG-25-0060, dated November 18, 2005, is acceptable for compliance with the requirements of that paragraph.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) Brazilian airworthiness directive 2006-02-02, effective February 24, 2006, also addresses the subject of this AD.

Material Incorporated by Reference

(j) You must use EMBRAER Service Bulletin 145LEG-25-0060, Revision 01, dated March 3, 2006, to perform the actions that are required by this AD, unless the AD specifies otherwise. The Director of the Federal Register approved the incorporation by reference of this document in accordance with 5 U.S.C. 552(a) and 1 CFR part 51. Contact Empresa Brasileira de Aeronautica S.A. (EMBRAER), P.O. Box 343—CEP 12.225, Sao Jose dos Campos—SP, Brazil, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 3, 2006.
Ali Bahrami,
Manager, Transport Airplane Directorate,Aircraft Certification Service.

[FR Doc. E6-13449 Filed 8-17-06; 8:45 am]

BILLING CODE 4910-13-P